DEPARTMENT OF HOMELAND SECURITY

Coast Guard

33 CFR Part 117

[USCG-2008-0833]

RIN 1625-AA09

Drawbridge Operation Regulation; Atlantic Intracoastal Waterway (AIWW), Elizabeth River, Southern Branch, Chesapeake, VA

AGENCY: Coast Guard, DHS.

ACTION: Notice of temporary deviation from regulations.

SUMMARY: The Commander, Fifth Coast Guard District, has issued a temporary deviation from the regulation governing the operation of the Gilmerton (U.S. 13/460) Lift Bridge, at AIWW mile 5.8, across the Elizabeth River (Southern Branch) in Chesapeake, VA. This deviation is necessary to facilitate structural repairs and allows the bridge to remain closed to navigation during the specified dates and times to facilitate structural repairs.

DATES: This deviation is effective from 8 p.m. on September 8, 2008, to 5 a.m. on October 6, 2008.

ADDRESSES: Documents indicated in this preamble as being available in the docket are part of docket USCG-2008-0833 and are available online at www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the Commander (dpb), Fifth Coast Guard District, Federal Building, 1st Floor, 431 Crawford Street, Portsmouth, VA 23704-5004 between 8 a.m. and 4 p.m., Monday through Friday, except Federal holidays.

FOR FURTHER INFORMATION CONTACT: If you have questions on this rule call Mr. Bill H. Brazier, Bridge Management Specialist, Fifth Coast Guard District, at (757) 398-6422. If you have questions on viewing the docket, call Renee V. Wright, Program Manager, Docket Operations, telephone 202-366-9826.

SUPPLEMENTARY INFORMATION: The contractor on behalf of the City of Chesapeake, who owns and operates this double-leaf bascule drawbridge, has requested a temporary deviation from the current operating regulations set out in 33 CFR 117.997(d).

The Gilmerton (U.S. 13/460) Lift Bridge, at AIWW mile 5.8, across the Elizabeth River (Southern Branch) in Chesapeake, VA, has a vertical clearance in the closed position to vessels of 11 feet above mean high water.

Under this temporary deviation, structural repairs will restrict the operation of the draw span on the following dates and times:

1. Closed-to-navigation, each day from 8 p.m. to 5 a.m., from September 8, 2008 to September 11, 2008, except vessel openings will be provided with at least two hours advance notice given to the bridge operator at (757) 545-1512 or via marine radio on Channel 13.

2. Closed-to-navigation from 8 p.m. on September 12, 2008 through 5 a.m. on September 15, 2008, except vessel openings will be provided at 7 a.m., 1 p.m., and 7 p.m. each day on September 13, 2008 and September 14, 2008.

3. Closed-to-navigation from 8 p.m. on September 19, 2008 through 5 a.m. on September 22, 2008, except vessel openings will be provided at 7 a.m., 1 p.m., and 7 p.m. each day on September 20, 2008 and September 21, 2008.

4. Closed-to-navigation from 8 p.m. on September 26, 2008 through 5 a.m. on September 29, 2008, except vessel openings will be provided at 7 a.m., 1 p.m., and 7 p.m. each day on September 27, 2008 and September 28, 2008.

5. Closed-to-navigation from 8 p.m. on October 3, 2008 through 5 a.m. on October 6, 2008, except vessel openings will be provided at 7 a.m., 1 p.m., and 7 p.m. each day on October 4, 2008 and October 5, 2008.

The Coast Guard will inform the users of the waterway through our Local and Broadcast Notices to Mariners of the opening restrictions of the draw span to minimize transiting delays caused by the temporary deviation.

In accordance with 33 CFR 117.35(e), the drawbridge must return to its regular operating schedule immediately at the end of the designated time period.

This deviation from the operating regulations is authorized under 33 CFR 117.35.

Dated: August 8, 2008.
Waverly W. Gregory, Jr.,
Chief, Bridge Administration Branch, Fifth Coast Guard District.

[FR Doc. E8-19317 Filed 8-19-08; 8:45 am]

BILLING CODE 4910-15-P